SMALL BUSINESS ADMINISTRATION

[Gemini Investors IV, L.P.; License No. 01/01-0410]

Notice Seeking Exemption Under Section 312 of the Small Business Investment Act, Conflicts of Interest

Notice is hereby given that Gemini Investors IV, L.P., 20 William Street, Wellesley, MA 02481, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Gemini Investors IV, L.P. proposes to provide equity financing to finance the acquisition of B&H Education, Inc., 501 S. Beverly Drive, Suite 240, Beverly Hills, CA 90212.

The financing is brought within the purview of § 107.730 of the Regulations because Gemini Investors III, L.P., an Associate of Gemini Investors IV, L.P., owns more than ten percent of B&H Education, Inc. Also, the proposed investment by Gemini Investors IV, L.P. will be part of a larger pool of funds to cash out existing shareholders, one of which is its Associate Gemini Investors III, L.P. Lastly, Associates of Gemini Investors IV, L.P. currently serve on the board of directors of B&H Education, Inc.

Therefore, this transaction is considered a financing of an Associate and a self-deal pursuant to 13 CFR 107.730 and requires an exemption. Notice is hereby given that any interested person may submit written comments on the transaction within fifteen days of the date of this publication to Associate Administrator for Investment, U.S. Small Business Administration, 409 Third Street, SW., Washington, DC 20416.

Dated: March 18, 2010.
Sean J. Greene,
Associate Administrator for Investment.

[FR Doc. 2010-7778 Filed 4-6-10; 8:45 am]

BILLING CODE 8025-01-P